DEPARTMENT OF HOMELAND SECURITY

Coast Guard

33 CFR Part 100

[Docket No. USCG-2023-0493]

Special Local Regulation; Dutch Shoe Regatta; San Diego, CA

AGENCY: Coast Guard, DHS.

ACTION: Notification of enforcement of regulation.

SUMMARY: The Coast Guard will enforce the Dutch Shoe Regatta special local regulation on the waters of San Diego Bay, California on July 21, 2023. These special local regulations are necessary to provide for the safety of the participants, crew, spectators, sponsor vessels, and general users of the waterway. During the enforcement period, persons and vessels are prohibited from anchoring, blocking, loitering, or impeding within this regulated area unless authorized by the Captain of the Port, or his designated representative.

DATES: The regulations in 33 CFR 100.1101 will be enforced for the Dutch Shoe Regatta regulated area listed in item 4 in Table 1 to § 100.1101 from noon to 4:30 p.m. on July 21, 2023.

FOR FURTHER INFORMATION CONTACT: If you have questions about this notice of enforcement, call or email Lieutenant Kim Shera, Waterways Management, U.S. Coast Guard Sector San Diego, CA; telephone (619) 278-7656, email MarineEventsSD@uscg.mil.

SUPPLEMENTARY INFORMATION: The Coast Guard will enforce the special local regulations in 33 CFR 100.1101 for the Dutch Shoe Regatta in San Diego Bay, CA for the location described in Table 1 to § 100.1101, Item No. 4 of that section Regatta from noon to 4:30 p.m. on July 21, 2023. This action is being taken to provide for the safety of life on navigable waterways during this event. Our regulation for marine events within the Eleventh Coast Guard District, § 100.1101, Item No. 4 of that section, specifies the location of the regulated area for the Dutch Shoe Regatta which encompasses the waters of San Diego Bay, CA, from Shelter Island to Glorietta Bay. Under the provisions of § 100.1101, persons and vessels are prohibited from anchoring, blocking, loitering, or impeding within this regulated area unless authorized by the Captain of the Port, or his designated representative. The Coast Guard may be assisted by other Federal, State, or local law enforcement agencies in enforcing this regulation.

In addition to this notice of enforcement in the Federal Register, the Coast Guard will provide the maritime community with advance notification of this enforcement period via the Local Notice to Mariners, Safety Marine Information Broadcast, and local advertising by the event sponsor.

If the Captain of the Port Sector San Diego or his designated representative determines that the regulated area need not be enforced for the full duration stated on this document, he or she may use a marine information broadcast or other communications coordinated with the event sponsor to grant general permission to enter the regulated area.

Dated: June 21, 2023.
J.W. Spitler,
Captain, U.S. Coast Guard, Captain of the Port San Diego.

[FR Doc. 2023-13755 Filed 6-27-23; 8:45 am]

BILLING CODE 9110-04-P